DEPARTMENT OF HEALTH AND HUMAN SERVICES

Centers for Disease Control and Prevention

[30Day-17-17ABC]

Agency Forms Undergoing Paperwork Reduction Act Review

The Centers for Disease Control and Prevention (CDC) has submitted the following information collection request to the Office of Management and Budget (OMB) for review and approval in accordance with the Paperwork Reduction Act of 1995. The notice for the proposed information collection is published to obtain comments from the public and affected agencies.

Written comments and suggestions from the public and affected agencies concerning the proposed collection of information are encouraged. Your comments should address any of the following: (a) Evaluate whether the proposed collection of information is necessary for the proper performance of the functions of the agency, including whether the information will have practical utility; (b) Evaluate the accuracy of the agencies estimate of the burden of the proposed collection of information, including the validity of the methodology and assumptions used; (c) Enhance the quality, utility, and clarity of the information to be collected; (d) Minimize the burden of the collection of information on those who are to respond, including through the use of appropriate automated, electronic, mechanical, or other technological collection techniques or other forms of information technology, e.g., permitting electronic submission of responses; and (e) Assess information collection costs.

To request additional information on the proposed project or to obtain a copy of the information collection plan and instruments, call (404) 639-7570 or send an email to omb@cdc.gov. Written comments and/or suggestions regarding the items contained in this notice should be directed to the Attention: CDC Desk Officer, Office of Management and Budget, Washington, DC 20503 or by fax to (202) 395-5806. Written comments should be received within 30 days of this notice.

Proposed Project

Zika Postpartum Emergency Response Survey (ZPER), Puerto Rico, 2017—New—National Center for Chronic Disease Prevention and Health Promotion (NCCDPHP), Centers for Disease Control and Prevention (CDC).

Background and Brief Description

In December 2015, the Puerto Rico Department of Health (PRDH) reported the first locally acquired (index) case of Zika virus disease in the United States. Since then, 38,733 cases have been confirmed in Puerto Rico, including 3,076 among pregnant women. Because the most common mosquito vector of Zika virus, Aedes aegypti, is present throughout Puerto Rico, Zika virus transmission is ongoing. The island has been designated at the highest level of risk according to a 3-tiered Zika virus infection risk scale developed by CDC's Emergency Operations Center.

While pregnant women do not differ from the general population in terms of susceptibility to Zika virus infection or severity of disease, they are at risk for adverse pregnancy and birth outcomes associated with Zika virus infection during pregnancy. After review of the available evidence, CDC concluded that Zika virus infection during pregnancy is a cause of microcephaly and other brain defects.

Given the adverse pregnancy and birth outcomes associated with Zika virus infection during pregnancy, it is more important than ever to understand the Zika-related concerns of pregnant women, interactions regarding Zika between pregnant women and their health care providers, sources of information that pregnant women consult regarding Zika virus, and use of recommended precautions by pregnant women to reduce the risk of exposure to Zika virus. This information was successfully collected for the first time in a hospital-based survey of women 24-48 hours after delivery by the Puerto Rico Department of Health in the fall of 2016 (Emergency OMB approval, Control #0920-1127), and has been critical for informing clinical guidance, developing communication messages, and providing resources for pregnant women.

The currently proposed data collection includes three components to follow-up on the initial effort. The first component is a telephone follow-back survey among a subset of the original participants. This component would be the first population-based sample of postpartum women who were pregnant during the early period of the Zika outbreak, and would provide information on the accessibility and utilization of postpartum and newborn services, and continued adherence to Zika prevention behaviors. The second component would be to repeat the hospital-based survey of pregnant women to assess the effectiveness of emergency response efforts and to determine where there is a need for further refinement of efforts and outstanding resource gaps; as with the first hospital-based survey, there would be subsequent telephone follow-up survey with a subset of the participants. The third and final component is the addition of a separate hospital-based survey for fathers of the infants born to surveyed mothers. This component would assess father's concerns about Zika related birth defects and contribution to prevention efforts.

There are no costs to respondents other than their time to participate.

Estimated Annualized Burden Hours
Type of respondents | Form name | Number of respondents | Number of responses per respondent | Avg. burden per response (in hours) | Total burden (in hours)
Women with recent births | Maternal hospital-based questionnaire | 2,990 | 1 | 25/60 | 1,247
Fathers with recently born infants | Father hospital-based questionnaire | 1,790 | 1 | 15/60 | 448
Women with live births 2-10 months prior | Follow-up phone questionnaire | 3,070 | 1 | 15/60 | 768
Total |  |  |  |  | 2,463

Leroy A. Richardson,
Chief, Information Collection Review Office, Office of Scientific Integrity, Office of the Associate Director for Science, Office of the Director, Centers for Disease Control and Prevention.

[FR Doc. 2017-17518 Filed 8-17-17; 8:45 am]

BILLING CODE 4163-18-P